DEPARTMENT OF HEALTH AND HUMAN SERVICES

Centers for Disease Control and Prevention

[Program Announcement 04195]

Strengthening the Masters-Level Public Health Training Program in Zimbabwe; Notice of Intent To Fund Single Eligibility Award

A. Purpose

The Centers for Disease Control and Prevention (CDC) announces the intent to fund fiscal year (FY) 2004 funds for a cooperative agreement program to strengthen masters-level graduate training programs in public health to more comprehensively address the HIV/AIDS epidemic in Zimbabwe. The Catalog of Federal Domestic Assistance number for this program is 93.283.

B. Eligible Applicant

Assistance will be provided only to the University of Zimbabwe (UZ), with the assistance targeted to the Department of Community Medicine (DCM). No other applications are solicited.

The UZ/DCM MPH program is an applied epidemiology training program founded through a collaborative effort between the Ministry of Health and Child Welfare (MOHCW) and the UZ/DCM. During the past three years, the MPH Program has trained 37 personnel in its two-year course. It also trained approximately 416 district health team members in health information for district management leading to a Certificate in Health Information for District Management (CHIDM).

The UZ/DCM MPH program is the only MPH program in the country and the only graduate public health program providing core public health trainings. The purpose of this agreement is to build upon the success of the program and allow it to expand without compromising the quality of the training.

Zimbabwe is among the countries in the world most affected by HIV/AIDS: HIV prevalence is estimated to be approximately 25 percent, there has been a ten-fold increase in the number of TB cases, and up to 35 percent of the children may be orphaned by AIDS at the end of this decade. At the same time, the public health response to the epidemic in Zimbabwe is inadequate due, in part, to insufficient manpower in the Zimbabwe public health system and lack of sufficient expertise in HIV/AIDS. This training program will enable Zimbabwe to train and place epidemiologists who are better equipped to address epidemics.

C. Funding

Approximately $173,000 is available in FY 2004 to fund this award. It is expected that the award will begin on or before July 15, 2004, and will be made for a 12-month budget period within a project period of up to three years. Funding estimates may change.

D. Where To Obtain Additional Information

For general comments or questions about this announcement, contact: Technical Information Management, CDC Procurement and Grants Office, 2920 Brandywine Road, Atlanta, GA 30341-4146, Telephone: 770-488-2700.

For program technical assistance, contact: Shannon Hader, M.D., Director, CDC Zimbabwe, 38 Samora Machel Avenue, Harare, Zimbabwe, telephone: +263 4 796040, E-mail: haders@zimcdc.co.zw.

For budget assistance, contact: Shirley Wynn, Grants Management Specialist, CDC Procurement and Grants Office, 2920 Brandywine Road, Atlanta, GA 30341, Telephone: 770-488-2696, E-mail: zbx6@cdc.gov.

Dated: May 17, 2004.
William P. Nichols,
Acting Director, Procurement and Grants Office, Centers for Disease Control and Prevention.

[FR Doc. 04-11634 Filed 5-21-04; 8:45 am]

BILLING CODE 4163-18-P